DEPARTMENT OF AGRICULTURE

Commodity Credit Corporation

Warehouse Operators Approved Under Commodity Credit Corporation Storage Agreements—CCC Policy on Making Payments and Interest on Delayed Payments

AGENCY: Commodity Credit Corporation, USDA.

ACTION: Notice.

SUMMARY: The Commodity Credit Corporation (CCC) pays warehouse operators approved under the Uniform Grain and Rice Storage Agreement, Peanut Storage Agreement, Cotton Storage Agreement and the Sugar Storage Agreement storage, handling, and other associated costs for commodities forfeited to CCC. Payments made by CCC are subject to the Prompt Payment Act of 1982, as amended; the Debt Collection Improvement Act of 1996; and the Federal Acquisition Regulations. To be fully compliant with these regulations, effective June 30, 2007, warehouse operators will be required to certify CCC payment invoices before the release of payment funds by CCC.

DATES: Effective Date: June 30, 2007.

FOR FURTHER INFORMATION CONTACT: Howard Froehlich, Chief, Program Development Branch, Warehouse and Inventory Division, Farm Service Agency, USDA, STOP 0553, 1400 Independence Avenue, SW., Washington, DC 20250-0553. Telephone: (202) 720-2121. E-mail: Howard.Froehlich@wdc.usda.gov. Persons with disabilities who require alternative means for communication (Braille, large print, audiotape, etc.) should contact the USDA Target Center at (202) 720-2600 (voice and TDD).

SUPPLEMENTARY INFORMATION: CCC acquires title to agricultural commodities in the administration of its programs under various circumstances. For instance, under Title I of the Farm Security and Rural Investment Act of 2002, CCC makes marketing assistance loans to producers that can lead to forfeiture of the commodities to CCC. To provide for the storage of various commodities it acquires, CCC enters into storage agreements with private warehouse operators. Section 5 of the CCC Charter Act (7 U.S.C. 714c) requires that in purchasing, selling, warehousing, transporting, or handling agricultural commodities, CCC is to use, to the maximum extent practicable, the usual and customary channels, facilities, and arrangements of trade and commerce. In contracting for warehouse services, CCC must be compliant with the Prompt Payment Act of 1982, as amended; the Debt Collection Improvement Act of 1996; and the Federal Acquisition Regulations. To be fully compliant with these regulations, effective June 30, 2007, warehouse operators will be required to certify CCC payment invoices before the release of payment funds by CCC.

CCC periodically prepares and issues invoices and payments for accrued storage and handling charges for warehouse-stored CCC-owned commodities recorded into CCC's inventory or forfeited to CCC through warehouse operators operating under the terms and conditions of a CCC Storage Agreement. This Notice announces a change in the method used by warehouse operators for invoice certification and in the timing of payments made by CCC. All invoices must be reviewed and certified by the warehouse operator before payments can be made. Endorsement of the certification of the invoice represents the warehouse operator's verification that the charges represented by the invoice and disbursement are due and owing. Criminal and civil penalties may be assessed for false certification. Periodic invoices will continue to be prepared by CCC; however, payments will now be made only after review, correction, and certification by the warehouse operator.

Currently, quarterly invoices are prepared representing storage and handling charges for warehouse-stored CCC-owned grain, cotton, and peanut stocks already recorded into CCC's inventory or forfeited to CCC during the quarterly period. When issuing quarterly periodic invoices, CCC will provide warehouse operators access to the quarterly periodic invoice through a secure Web site for review and electronic certification of the invoice(s). Warehouse operators will receive an e-mail notification when invoices are available for review and grain. Grain and peanut warehouse operators can go to the ED3 website: http://pcsd.usda.gov:3076/finance/ to review and certify the invoices for accuracy. Cotton warehouse operators can go to the Cotton Online Processing System (COPS) website: http://www.fsa.usda.gov/cotton. If the warehouse operator believes the amount owed by CCC in the invoice is incorrect, the warehouse operator may note the discrepancies in the fields provided on the invoice.

Monthly invoices, including grain and peanut loan forfeiture and loading order invoices and sugar loan forfeiture and storage invoices, are prepared as hard copy documents and are mailed to warehouse operators for certification. If the warehouse operator believes the amount owed by CCC in the invoice is incorrect, the warehouse operator may note the discrepancies on the invoice. Signed invoices must be returned to CCC before payment may be made.

The Prompt Payment Act of 1982 provides that when payment is not made within 30 calendar days following the receipt of certified invoice from the warehouse operator, interest will be paid, per the terms of the Prompt Payment Act, from the 31st calendar day following receipt of the invoice through the date payment is made. CCC will continue to make payments via Automated Clearing House (ACH) Electronic Fund Transfers (EFT).

Signed at Washington, DC, June 14, 2007.
Teresa C. Lasseter,
Executive Vice President, Commodity Credit Corporation.

[FR Doc. E7-12442 Filed 6-26-07; 8:45 am]

BILLING CODE 3410-05-P